DEPARTMENT OF THE TREASURY

Alcohol and Tobacco Tax and Trade Bureau

Proposed Collection; Comment Request

ACTION: Notice and request for comments.

SUMMARY: The Department of the Treasury, as part of its continuing effort to reduce paperwork and respondent burden, invites the general public and other Federal agencies to comment on proposed and/or continuing information collections, as required by the Paperwork Reduction Act of 1995, Pub. L. 104-13 (44 U.S.C. 3506(c)(2)(A)). Currently, the Alcohol and Tobacco Tax and Trade Bureau, Department of the Treasury, is soliciting comments concerning the 2000 Floor Stocks Tax Return (Cigarettes) and Recordkeeping Requirements.

DATES: Written comments should be received on or before July 11, 2003, to be assured of consideration.

ADDRESSES: Direct all written comments to Linda Barnes, Alcohol and Tobacco Tax and Trade Bureau, 650 Massachusetts Avenue, NW., Washington, DC 20226, telephone (202) 927-8930.

FOR FURTHER INFORMATION CONTACT: Requests for additional information or copies of the form(s) and instructions should be directed to Kristy Colon, Regulations and Procedures Division, Alcohol and Tobacco Tax and Trade Bureau, 650 Massachusetts Avenue, NW., Washington, DC 20226, telephone (202) 927-8210.

SUPPLEMENTARY INFORMATION: Title: 2000 Floor Stocks Tax Return (Cigarettes) and Recordkeeping Requirements.

OMB Number: 1513-0105.

Form Number: TTB F 5000.28T.

Abstract: A floor stocks tax has been imposed on cigarettes. Liability for the floor stocks tax is determined on the basis of an inventory of cigarettes held for sale. All persons who hold for sale any cigarettes on January 1, 2000 must take an inventory. Each person will be required to make either a record of the physical inventory or a book or record inventory supported by the appropriate source records.

Current Actions: This information collection is being submitted for an extension. The only change is a reduction in the number of respondents.

Type of Review: Extension.

Affected Public: Business or other for-profit.

Estimated Number of Respondents: 100.

Estimated Total Annual Burden Hours: 1 hour.

Request for Comments: Comments submitted in response to this notice will be summarized and/or included in the request for OMB approval. All comments will become a matter of public record. Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance, and purchase of services to provide information.

Dated: May 6, 2003.
Theresa McCarthy,
Deputy Chief, Regulations and Procedures Division.

[FR Doc. 03-11712 Filed 5-9-03; 8:45 am]

BILLING CODE 4810-31-P